NATIONAL ARCHIVES AND RECORDS ADMINISTRATION

[NARA-2017-004]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when agencies no longer need them for current Government business. The records schedules authorize agencies to preserve records of continuing value in the National Archives of the United States and to destroy, after a specified period, records lacking administrative, legal, research, or other value. NARA publishes notice in the Federal Register for records schedules in which agencies propose to destroy records not previously authorized for disposal or reduce the retention period of records already authorized for disposal. NARA invites public comments on such records schedules, as required by 44 U.S.C. 3303a(a).

DATES: NARA must receive requests for copies in writing by November 18, 2016. Once NARA finishes appraising the records, we will send you a copy of the schedule you requested. We usually prepare appraisal memoranda that contain additional information concerning the records covered by a proposed schedule. You may also request these. If you do, we will also provide them once we have completed the appraisal. You have 30 days after we send to you these requested documents in which to submit comments.

ADDRESSES: You may request a copy of any records schedule identified in this notice by contacting Records Appraisal and Agency Assistance (ACRA) using one of the following means:

Mail: NARA (ACRA); 8601 Adelphi Road, College Park, MD 20740-6001.

Email: request.schedule@nara.gov.

FAX: 301-837-3698.

You must cite the control number, which appears in parentheses after the name of the agency that submitted the schedule, and a mailing address. If you would like an appraisal report, please include that in your request.

FOR FURTHER INFORMATION CONTACT: Margaret Hawkins, Director, by mail at Records Appraisal and Agency Assistance (ACRA); National Archives and Records Administration, 8601 Adelphi Road, College Park, MD 20740-6001, by phone at 301-837-1799, or by email at request.schedule@nara.gov.

SUPPLEMENTARY INFORMATION: Each year, Federal agencies create billions of records on paper, film, magnetic tape, and other media. To control this accumulation, agency records managers prepare schedules proposing records retention periods and submit these schedules for NARA's approval. These schedules provide for timely transfer into the National Archives of historically valuable records and authorize the agency to dispose of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless otherwise specified. An item in a schedule is media neutral when an agency may apply the disposition instructions to records regardless of the medium in which it creates or maintains the records. Items included in schedules submitted to NARA on or after December 17, 2007, are media neutral unless the item is expressly limited to a specific medium. (See 36 CFR 1225.12(e).)

Agencies may not destroy Federal records without Archivist of the United States' approval. The Archivist approves destruction only after thoroughly considering the records' administrative use by the agency of origin, the rights of the Government and of private people directly affected by the Government's activities, and whether or not the records have historical or other value.

In addition to identifying the Federal agencies and any subdivisions requesting disposition authority, this notice lists the organizational unit(s) accumulating the records (or notes that the schedule has agency-wide applicability when schedules cover records that may be accumulated throughout an agency); provides the control number assigned to each schedule, the total number of schedule items, and the number of temporary items (the records proposed for destruction); and includes a brief description of the temporary records. The records schedule itself contains a full description of the records at the file unit level as well as their disposition. If NARA staff has prepared an appraisal memorandum for the schedule, it also includes information about the records. You may request additional information about the disposition process at the addresses above.

Schedules Pending

1. Department of Defense, National Guard Bureau (DAA-0168-2016-0003, 3 items, 2 temporary items). Records relating to legislative inquiries to agency leadership including routine or administrative information. Proposed for permanent retention are records relating to questions of policy, budget, appropriations and similar records.

2. Department of Defense, Office of the Secretary of Defense (DAA-0330-2016-0015, 1 item, 1 temporary item). Master files of an electronic information system used to track nominators and candidates of a program for business and community leaders to gain a greater awareness of national defense issues.

3. Department of Defense, Office of the Secretary of Defense (DAA-0330-2016-0016, 1 item, 1 temporary item). Records relating to employers who have pledged to provide a supportive work environment for members of the National Guard and Reserves.

4. Department of Energy, Agency-wide (DAA-0434-2016-0007, 2 items, 1 temporary item). Records relating to the Ombudsman program including case files. Proposed for permanent retention are the charter, mission statement, and statistical analysis.

5. Department of Health and Human Services, Office of the Secretary (DAA-0468-2016-0002, 8 items, 4 temporary items). Records of the Office of the Inspector General including routine correspondence, regulation support records, testimonies, and working papers. Proposed for permanent retention are substantive Congressional correspondence and mandated reports, policy records, and press releases.

6. Department of Homeland Security, Immigration and Customs Enforcement (DAA-0567-2015-0008, 8 items, 8 temporary items). Protective equipment records including incident case files, annual incident reports, proficiency and instructor certifications, body armor requests, and related administrative materials.

7. Department of Justice, Agency-wide (DAA-0060-2016-0004, 1 item, 1 temporary item). Records relating to evaluation and selection of prospective employees, interns, and volunteers.

8. Department of Justice, INTERPOL Washington United States National Central Bureau (DAA-0060-2015-0002, 8 items, 8 temporary items). Records relating to United States representation to INTERPOL including reports, meeting minutes, agreements, and administrative records.

9. Department of Justice, Office of Information Policy (DAA-0060-2016-0005, 10 items, 7 temporary items). Records relating to oversight of Federal agency compliance with the Freedom of Information Act (FOIA). Records include report drafts, background and resource material gathered in preparing final reports, records relating to the administration of the FOIA, compliance monitoring, and legal advice to agencies. Proposed for permanent retention are Government-wide FOIA Reports, the Department of Justice Guide to the FOIA, and records of the Chief FOIA Officers Council.

10. Department of Transportation, Federal Transit Administration (DAA-0408-2013-0004, 2 items, 2 temporary items). General financial records, including Government Accountability Office exception files, and accountable officer designee records.

11. Department of Transportation, National Highway Traffic Safety Administration (DAA-0416-2015-0001, 1 item, 1 temporary item). Electronic information system used to facilitate the criminal investigation of odometer fraud.

12. Department of Transportation, Pipeline and Hazardous Materials Safety Administration (DAA-0571-2015-0001, 4 items, 4 temporary items). Web site records including internal and external Web sites, content management system, Web site logs and statistical compilations.

13. Department of Transportation, Pipeline and Hazardous Materials Safety Administration (DAA-0571-2015-0010, 1 item, 1 temporary item). Records pertaining to plans for responding to pipeline spills.

14. Department of Transportation, Pipeline and Hazardous Materials Safety Administration (DAA-0571-2015-0015, 1 item, 1 temporary item). Activity files to include quarterly and technical program activity reports.

15. National Archives and Records Administration, Government-wide (DAA-GRS-2014-0002, 21 items, 21 temporary items). General Records Schedule for employee acquisition records including classification standards, position descriptions, classification appeals, job vacancy case files and application packages, interview records, records relating to political appointments, special hiring authority program records, pre-appointment files, and administrative records of agency agreements with the Office of Personnel Management to process examination and certification of potential employees.

16. National Archives and Records Administration, Government-wide (DAA-GRS-2015-0007, 23 items, 23 temporary items). General Records Schedule for employee relations records such as Alternative Dispute Resolution files; Reasonable Accommodation program records; Equal Employment Opportunity program and complaint files; anti-harassment program records; labor management relations records; administrative grievance, disciplinary and adverse action files; displaced employee program records; and telework/alternative worksite program files.

17. Peace Corps, Overseas Posts (DAA-0490-2016-0012, 6 items, 6 temporary items). Records include administrative records, copies of policies and procedures, handbooks, logs, and emergency planning materials.

18. Securities and Exchange Commission, Office of Human Resources (DAA-0266-2016-0013, 2 items, 2 temporary items). Records of agency employee applications for assistance in repaying outstanding qualifying Federal student loans.

19. Securities and Exchange Commission, Office of Human Resources (DAA-0266-2016-0014, 1 item, 1 temporary item). Records of employee temporary work assignments with Federal, State, local, and American Indian tribal governments; colleges and universities; and other eligible organizations.

Laurence Brewer,
Chief Records Officer for the U.S. Government.

[FR Doc. 2016-25224 Filed 10-18-16; 8:45 am]

BILLING CODE 7515-01-P